DEPARTMENT OF TRANSPORTATION

Federal Aviation Administration

14 CFR Part 71

[Docket No. FAA-2008-0419; Airspace Docket No. 08-ANM-3]

Establishment of Low Altitude Area Navigation Route (T-Route); Southwest Oregon

AGENCY: Federal Aviation Administration (FAA), DOT.

ACTION: Final rule.

SUMMARY: This action establishes a low altitude Area Navigation (RNAV) route, designated T-276. The NPRM incorrectly indicated the route location in Southwest Oregon, however the route is in Southwest Washington. T-routes are low altitude Air Traffic Service (ATS) routes, based on RNAV, for use by aircraft having instrument flight rules (IFR) approved Global Positioning System (GPS)/Global Navigation Satellite System (GNSS) equipment. The FAA is taking this action to reduce controller workload, enhance safety and improve the efficient use of the navigable airspace into and through the Portland, Oregon, terminal area.

DATES: Effective Date: 0901UTC, November 20, 2008. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On April 29, 2008, the FAA published in the Federal Register a notice of proposed rulemaking (NPRM) to establish a low altitude T-route in southwest Oregon (73 FR 23136). Interested parties were invited to participate in this rulemaking effort by submitting written comments on this proposal to the FAA. Three comments were received in response to the NPRM. One comment pointed out the route is located in Southwest Washington and not in Southwest Oregon. The FAA is making the correction. Two comments expressed concern with upslope icing in the area of T-276 and recommended additional training and information be made available to both pilots and controllers concerning the danger of upslope icing in the vicinity of the new airway. In conjunction with the Aircraft Owners and Pilots Association (AOPA) and the Oregon Pilots Association (OPA) articles addressing upslope icing will be published in upcoming issues of the OPA Magazine Propwash in August, and in the September issue of the AOPA magazine. Additionally, an FAA representative will conduct a briefing on upslope icing at the annual OPA meeting scheduled for August 23, 2008.

Low altitude RNAV routes are published in paragraph 6011 of FAA Order 7400.9R signed August 15, 2007, and effective September 15, 2007, which is incorporated by reference in 14 CFR 71.1. The low altitude RNAV routes listed in this document will be published subsequently in the Order.

The Rule

This action amends to Title 14 Code of Federal Regulations (14 CFR) part 71 by establishing a low altitude RNAV route in southwest Washington. The route is designated T-276, and will be depicted on the appropriate IFR En Route Low Altitude charts. T-routes are low altitude RNAV ATS routes, similar to Very High Frequency Omnidirectional Range Federal airways, but based on GNSS navigation. RNAV equipped aircraft capable of filing flight plan equipment suffix “G” may file for these routes.

The T-route described in this rule will enhance safety, and facilitate more flexible and efficient use of the navigable airspace for en route IFR operations transitioning through mountainous terrain of southwest Washington.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it establishes an RNAV T-route in southwest Washington.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, signed August 15, 2007, and effective September 15, 2007, is amended as follows:

Paragraph 6011 Contiguous United States Area Navigation Routes.

* * * * *

T-276 COUGA, WA to CARBY, WA [New]

COUGA WP (lat. 46°05′31″ N., long. 122°40′39″ W.)

CARBY WP (lat. 45°44′06″ N., long. 121°55′32″ W.)

* * * * *

Issued in Washington, DC, on August 27, 2008.
Edith V. Parish,
Manager, Airspace and Rules Group.

[FR Doc. E8-20660 Filed 9-8-08; 8:45 am]

BILLING CODE 4910-13-P